NATIONAL SCIENCE FOUNDATION

Committee on Equal Opportunities in Science and Engineering; Notice of Meeting

In accordance with the Federal Advisory Committee Act (Pub. L. 92-463, as amended), the National Science Foundation (NSF) announces the following meeting:

Name and Committee Code: Committee on Equal Opportunities in Science and Engineering (CEOSE) Advisory Committee Meeting (#1173).

Date and Time: February 13, 2019; 11:00 a.m.-3:30 p.m.

Place: National Science Foundation, 2415 Eisenhower Avenue, Alexandria, VA 22314.

Note: CEOSE members will participate virtually. If you are interested in attending this meeting, you are required to attend in person. To help facilitate your entry into the building, please contact Una Alford (ualford@nsf.gov or 703-292-7111) on or prior to February 11, 2019.

Type of Meeting: Open.

Contact Person: Dr. Bernice Anderson, Senior Advisor and CEOSE Executive Secretary, Office of Integrative Activities (OIA), National Science Foundation, 2415 Eisenhower Avenue, Alexandria, VA 22314. Contact Information: 703-292-8040/banderso@nsf.gov.

Minutes: Meeting minutes and other information may be obtained from the CEOSE Executive Secretary at the above address or the website at http://www.nsf.gov/od/oia/activities/ceose/index.jsp.

Purpose of Meeting: To study data, programs, policies, and other information pertinent to the National Science Foundation and to provide advice and recommendations concerning broadening participation in science and engineering.

Agenda:

• Opening Statement and Chair Report by the CEOSE Chair

• NSF Executive Liaison Report

• Reports and Updates from the CEOSE Liaisons

• Working Session and Discussion: Reviewing the 2017-2018 Biennial Report to Congress

• Discussion: CEOSE Recommendation and Future Directions

• Announcements

Reason for Late Notice: Scheduling complications resulting from the recent lapse in appropriations.

Dated: January 31, 2019.
Crystal Robinson,
Committee Management Officer.

[FR Doc. 2019-01118 Filed 2-4-19; 8:45 am]

BILLING CODE 7555-01-P